Title 3—

The President

Proclamation 7605 of October 8, 2002

Leif Erikson Day, 2002

By the President of the United States of America

A Proclamation

More than 1,000 years ago, Leif Erikson and his crew journeyed across the Atlantic seeking unknown lands. Their pioneering spirit of courage, determination, and discovery helped to open the world to new exploration and unprecedented development. Each October, we join our friends in Iceland, Norway, Denmark, Sweden, and Finland in honoring this historic voyage and in celebrating the strong transatlantic bonds that exist between those countries and the United States.

Our Nation is committed to promoting prosperity and stability throughout Northern Europe. Through the Northern Europe Initiative, we have partnered with other nations in the region to enhance security and economic growth in the Baltic region. This Initiative addresses concrete needs in six areas: the environment; public health; law enforcement and rule-of-law; civil society; energy; and trade. Our Nation also supports the European Union's “Northern Dimension” strategy, which aims to strengthen the integration of Northwest Russia and the accession countries to the European Union. These important efforts, along with the bilateral programs of all Nordic countries, are helping to build a brighter future for the entire region.

As we defend ourselves against terrorism, we are grateful for the support of our coalition partners around the world, including our Nordic friends and allies. The goodwill demonstrated by the people of this region has reinforced our close ties and strengthened our resolve to overcome the evil that is before us. As we celebrate Leif Erikson Day, we recommit ourselves to a world of innovation, prosperity, and opportunity.

To honor Leif Erikson, the brave son of Iceland and grandson of Norway, and to recognize our Nation's Nordic-American heritage, the Congress, by joint resolution (Public Law 88-566) approved on September 2, 1964, has authorized and requested the President to proclaim October 9 of each year as “Leif Erikson Day.”

NOW, THEREFORE, I, GEORGE W. BUSH, President of the United States of America, do hereby proclaim October 9, 2002, as Leif Erikson Day. I call upon all Americans to observe this day with appropriate ceremonies, activities, and programs to honor our rich Nordic-American heritage.

IN WITNESS WHEREOF, I have hereunto set my hand this eighth day of October, in the year of our Lord two thousand two, and of the Independence of the United States of America the two hundred and twenty-seventh.

B

[FR Doc. 02-26242

Filed 10-10-02; 8:45 am]

Billing code 3195-01-P